DEPARTMENT OF JUSTICE

Antitrust Division

Notice Pursuant to the National Cooperative Research and Production Act of 1993—The Digital Subscriber Line Forum

Notice is hereby given that, on April 24, 2002, pursuant to Section 6(a) of the National Cooperative Research and Production Act of 1993, 15 U.S.C. § 4301 et seq. (“the Act”), The Digital Subscriber Line Forum (“DSL”) filed written notifications simultaneously with the Attorney General and the Federal Trade Commission disclosing changes in its membership status. The notifications were filed for the purpose of extending the Act's provisions limiting the recovery of antitrust plaintiffs to actual damages under specified circumstances. Specifically, Best Data Products, Chatsworth, CA; Cesky Telecom, Praha, CZECH REPUBLIC; Copper Development Assoc., New York, NY; Corecess, Seoul, REPUBLIC OF KOREA; Gatespace AB, Goteborg, SWEDEN; Infineon Technologies, Munich, GERMANY; Linksys, Irvine, CA; Metro-Optix, Allen, TX; Nexans, Hickory, NC; Optimal Communications LTD, Gerrards Cross, Buckinghamshire, UNITED KINGDOM; Pedestal Networks, Palo Alto, CA; Silicom, Kfar-Sava, ISRAEL; Thomson Multimedia, Edegem, BELGIUM; and Valo Systems, Petaluma, CA, have been added as parties to this venture. In addition, 186K Ltd., Reading, Berkshire, UNITED KINGDOM; AccessLan Communications, San Jose, CA; Accton Technology, Hsinchu, TAIWAN; Acer Communications & Multimedia, Taipei, TAIWAN; Ahead Communications, Vienna, AUSTRIA; Anda Networks, San Jose, CA; Applied Innovation, Dublin, OH; Arca Technologies, Belfast, UNITED KINGDOM; ASUSTek Computer, Taipei, TAIWAN;

Atlantic Telecom, Frankfurt, GERMANY; Avaya, Inc., Whippany, NJ; BABT, Santa Clara, CA; Banspeed, Austin, TX; BATM, Rosh Ha'ayin, ISRAEL; BayPackets, Menlo Park, CA; Bicotest, Cheshunt, Hertfordshire,

UNITED KINGDOM; Broadband Gateways, Plano, TX; BroadJump, Austin, TX; Carrier Access Corporation, Boulder, CO; C-DOT, Bangalore, INDIA; Celestix Networks, Fremont, CA; Centre for Wireless Communications, Singapore, SINGAPORE; Charles Industries, Rolling Meadows, IL; Cirrus Logic, Boca Raton, FL; CIS Industries, Fremont, CA; Consultronics, Concord, Ontario, CANADA; Convergent Networks, Lowell, MA; Coreon, Staten Island, NY; Corning Cable Systems, Keller, TX; Dataflex Design Communications, Sutton, Surrey, UNITED KINGDOM; DBTEL, Taipei, TAIWAN; Delta Products Corporation, Research Triangle Park, NC; D-Link, Hsinchu, TAIWAN; DT Magnetics, Ramona, CA; DV Tel. Inc., Totowa, NJ; EBONE, Hoeilaart, BELGIUM; Efficient Networks, Dallas, TX; Eicon Networks, Montreal, Quebec, CANADA; ELSA, Aachen, GERMANY; Energis Communications, Reading, Berkshire, UNITED KINGDOM; Epcos, Munich, GERMANY; e-Site, Tustin, CA; E-Tech, Hsinchu, TAIWAN; Fluke Networks, Inc., Everett, WA; General Cable, Highland Heights, KY; GlobaLoop, Hod Hasharon, ISRAEL; HarmonyCom, Petach-Tikva, ISRAEL; Hitachi, Yokohama, JAPAN; iMagicTV, Cambridge, UNITED KINGDOM; imajet.com, Singapore, SINGAPORE; Incognito Software, Vancouver, British Columbia, CANADA; InfiniLink Corporation, Irvine, CA; Institute for Information Industry (III), Taipei, TAIWAN; Integral Access, Chelmsford, MA; Interactive Enterprise Ltd., Dublin, IRELAND; ITI Limited, Bangalore, INDIA; Kenetec, Oxford, CT; Legerity, Austin, TX; LSI Logic, San Jose, CA; MCK Communications, Newton, MA; Midcom, Watertown, SD; Mitsubishi Electric Corporation, Kamakura, JAPAN; mPhase Technologies, Norwalk, CT; National Semiconductor, Santa Clara, CA; Navini Networks, Richardson, TX; NeoWave, Anyang-shi, REPUBLIC OF KOREA; Netensity, Plano, TX; Netility, Sunnyvale, CA; NightFire Software, Oakland, CA; Nortel Networks, Harlow, Essex, UNITED KINGDOM; Orckit Communications, Tel-Aviv, ISRAEL; PCTEL, Waterbury, CT; Premier

Magnetics Inc., Lake Forest, CA; Profec Group, Nummela, FINLAND; Proscend Communication, Hsinchu, TAIWAN;

QS Communications, Cologne, GERMANY; QuesCom SA, Valbonne, FRANCE; Radio Shack, Fort Worth, TX; RC Networks, San Diego, CA; RCS Reseaux, Pantin, FRANCE; RIAS Corporation, Fremont, CA; Rosun Technologies, Fremont, CA; Sagem Group, Paris, FRANCE; Sapphire Communications, San Jose, CA; sentitO Networks, Rockville, MD; Sharegate, Reno, NY; Sheer Networks, Sunnyvale, CA; Silicon Integrated Systems, Hsin-Chu, TAIWAN; Sonus Networks, Long Beach, CA; Sony Electronics, Inc., San Jose, CA; State Farm Insurance, Bloomington, IL; Superior Telecommunications, Atlanta, GA; Surf Communications Solutions, D.N., Misgav, ISRAEL; Talema-Nuvotem, Donegal, IRELAND; Tamura Corporation of America, Temecula, CA; TDK Semiconductor, Tustin, CA; Tecom Co., LTD., Hsinchu, TAIWAN; TeleDream, San Jose, CA; Telefonica CTC Chile, Santiago, CHILE; Telenor, Oslo, NORWAY; Telmax Communications, Fremont, CA; Tenovis GmbH & Co. KG, Frankfurt, GERMANY; TERAYON, Fremont, CA; Tioga Technologies, Tel Aviv, ISRAEL; Toko America, Mt. Prospect, IL; TollBridge Technologies, Santa Clara, CA; TranSwitch Corporation, Shelton, CT; TXU Communications, Irving, TX; UAT, Taipei, TAIWAN; VDSL Systems Oy, Espoo, FINLAND; ViaGate Technologies, Bridgewater, NJ; Vina Technologies, Newark, CA; Vpacket Communications, Milpitas, CA; Westwave Communications, Santa Rosa, CA; and Zoom Telphonics, Boston, MA, have been dropped as parties to this venture.

The following companies have merged: UUNet was bought by WorldCom, and their memberships have been merged under WorldCom, Cambridge, UNITED KINGDOM; Xircom was bought by Intel, and their memberships have been merged under Intel, Wheaton, IL; Cayman Systems was bought by Netopia, and their memberships have been merged under Netopia, Billerica, MA; and 8 × 8 was bought by Netergy Networks, Marlow, Bucks, UNITED KINGDOM.

No other changes have been made in either the membership or planned activity of the group research project. Membership in this group research project remains open, and DSL intends to file additional written notifications disclosing all changes in membership.

On May 15, 1995, DSL filed its original notification pursuant to Section 6(a) of the Act. The Department of Justice published a notice in the Federal Register pursuant to Section 6(b) of the Act on July 25, 1995 (60 FR 38058).

The last notification was filed with the Department on February 5, 2002. A notice was published in the Federal Register pursuant to Section 6(b) of the Act on March 27, 2002 (67 FR 14729).

Constance K. Robinson,
Director of Operations, Antitrust Division.

[FR Doc. 02-18230 Filed 7-18-02; 8:45 am]

BILLING CODE 4410-11-M